DEPARTMENT OF ENERGY

Federal Energy Regulatory Commission

[Docket No. QF09-524-000]

Motiva Enterprises LLC; Notice of Filing of Notice of Self-Certification of Qualifying Status of a Cogeneration Facility

August 18, 2009.

Take notice that on August 10, 2009, Motiva Enterprises LLC (Applicant), located at P.O. Box 2463, Houston, TX 77252-2463, filed with the Federal Energy Regulatory Commission a notice of self-certification of a facility as a qualifying cogeneration facility pursuant to 18 CFR 292.207(a) of the Commission's regulations.

The applicant is constructing a cogeneration facility (Facility) at the site of its existing Port Arthur Refinery, located at 2555 Savannah Avenue, Port Arthur, TX 77640, to provide steam and electric energy primarily to meet the requirements of its Port Arthur Refinery—Crude Expansion Project and in part to meet the requirements of its existing Port Arthur Refinery. The Facility consist of four gas turbine generators, with four heat recovery generators, with a combined net electric capacity of 156 MW. The primary fuel for the Facility will be natural gas.

Entergy Texas Inc. is the electric utility to which the Facility will interconnect. Generation is used primarily to meet on-site demand of the Port Arthur Refinery—Crude Expansion Project; however, any surplus could be sold in the available power markets.

A notice of self-certification does not institute a proceeding regarding qualifying facility status; a notice of self-certification provides notice that the entity making the filing has determined the Facility meets the applicable criteria to be a qualifying facility. Any person seeking to challenge such qualifying facility status may do so by filing a motion pursuant to 18 CFR 292.207(d)(iii).

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E9-20370 Filed 8-24-09; 8:45 am]

BILLING CODE 6717-01-P